DEPARTMENT OF TRANSPORTATION

Federal Aviation Administration

14 CFR Part 39

[Docket No. FAA-2006-24517; Directorate Identifier 2006-NE-18-AD; Amendment 39-14591; AD 2006-10-07]

RIN 2120-AA64

Airworthiness Directives; Hamilton Sundstrand Model 14RF-9 Propellers; Correction

AGENCY: Federal Aviation Administration, DOT.

ACTION: Final rule; correction.

SUMMARY: This document makes a correction to Airworthiness Directive (AD) 2006-10-07. That AD applies to Hamilton Sundstrand Model 14RF-9 propellers. We published AD 2006-10-07 in the Federal Register on May 12, 2006 (71 FR 27600). An incorrect phrase was used in the compliance section, which impacts the intent of the compliance. This document corrects that phrase. In all other respects, the original document remains the same.

DATES: Effective Date: Effective May 19, 2006.

FOR FURTHER INFORMATION CONTACT: Frank Walsh, Aerospace Engineer, Boston Aircraft Certification Office, FAA, Engine & Propeller Directorate, 12 New England Executive Park, Burlington, MA 01803; telephone (781) 238-7158; fax (781) 238-7170.

SUPPLEMENTARY INFORMATION: A final rule AD, FR Doc. 06-4390, that applies to Hamilton Sundstrand Model 14RF-9 propellers was published in the Federal Register on May 12, 2006 (71 FR 27600). The following correction is needed:

§ 39.13 [Corrected]

On page 27601, in the third column, in compliance paragraph (i)(1), in the second line, “after accumulating an additional 500 flight cycles” is corrected to read “within an additional 500 flight cycles”.

Issued in Burlington, MA, on May 15, 2006.
Robert J. Ganley,
Acting Manager, Engine and Propeller Directorate, Aircraft Certification Service.

[FR Doc. 06-4679 Filed 5-18-06; 8:45 am]

BILLING CODE 4910-13-P